DEPARTMENT OF ENERGY

Federal Energy Regulatory Commission

[Docket No. RP02-13-009]

Portland Natural Gas Transmission System; Notice of Amended Report of Refunds

April 25, 2003.

Take notice that on April 22, 2003, Portland Natural Gas Transmission System (PNGTS), tendered for filing a corrected refund report in the above captioned proceeding. PNGTS states that the corrected report corrects a minor error in PNGTS's prior distribution of refunds to customers in accordance with section 2.2 of a Stipulation and Settlement Agreement filed with the Commission on October 25, 2002 in Docket No. RP02-13, and approved by the Commission's Order issued on January 14, 2003.

PNGTS states the error resulted in an overpayment of interest on refunds that it completed on March 26, 2003, and reflected in a prior refund report filed on April 11, 2003. PNGTS states that the aggregate amount of the correction is $7,649.51.

PNGTS further states that copies of the filing have been served upon the affected shippers and on the State Commission's of affected shippers.

Any person desiring to protest said filing should file a protest with the Federal Energy Regulatory Commission, 888 First Street, NE., Washington, DC 20426, in accordance with section 385.211 of the Commission's Rules and Regulations. All such protests must be filed on or before the comment date below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 2, 2003.

Magalie R. Salas,
Secretary.

[FR Doc. 03-10772 Filed 4-30-03; 8:45 am]

BILLING CODE 6717-01-P